DEPARTMENT OF JUSTICE

Notice of Lodging of Proposed Stipulation Under the Clean Air Act, the Emergency Planning and Community Right-to-Know Act of 1986, and the Comprehensive Environmental Response, Compensation, and Liability Act

On October 23, 2018, the Department of Justice lodged a proposed Stipulation (“Stipulation”) with the United States District Court for the District of Massachusetts in the lawsuit entitled United States v. Stavis Seafoods, Inc., Civil Action No. 1:18-cv-12199. In the Complaint, the United States, on behalf of the U.S. Environmental Protection Agency (“EPA”), alleges that Stavis Seafoods, Inc. (“Stavis”) violated the Clean Air Act, 42 U.S.C. 7412(r)(1), for a release of anhydrous ammonia and associated violation of the requirements under the Clean Air Act's General Duty Clause, such as a failure to conduct a process hazard analysis, failure to maintain the facility in the adequate manner, and failure to minimize the consequences of a release. The Complaint also contains allegations under the Emergency Planning and Community Right-to-Know Act of 1986, 42 U.S.C. 11022, and the Comprehensive Environmental Response, Compensation and Liability Act, 42 U.S.C. 9603(a) for Stavis' failure to properly report its inventory of hazardous substances and for failing to comply with emergency notification requirements. The proposed Stipulation in this case requires Stavis to pay a civil penalty of $700,000.

The publication of this notice opens a period for public comment on the proposed Stipulation. Comments should be addressed to the Assistant Attorney General, Environment and Natural Resources Division, and should refer to United States v. Stavis Seafoods, Inc., D.J. Ref. No. 90-5-2-1-11574. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Stipulation may be examined and downloaded at this Justice Department website: https://www.justice.gov/enrd/consent-decrees. We will provide a paper copy of the proposed Stipulation upon written request and payment of reproduction costs. Please mail your request and payment to: Consent Decree Library, U.S. DOJ—ENRD, P.O. Box 7611, Washington, DC 20044-7611.

Please enclose a check or money order for $9.50 (25 cents per page reproduction cost), payable to the United States Treasury.

Robert Maher,
Assistant Section Chief, Environmental Enforcement Section, Environment & Natural Resources Division.

[FR Doc. 2018-23736 Filed 10-30-18; 8:45 am]

BILLING CODE 4410-15-P